DEPARTMENT OF HOUSING AND URBAN DEVELOPMENT

[Docket No. FR-4601-N-03]

Notice of Extension of Application Period and Modification of Number of Positions for the U.S.-Israel Bi-National Commission on Housing and Community Development

AGENCY: Office of International Affairs under the Office of the Assistant Secretary for Policy Development and Research, HUD.

ACTION: Notice of extension and modification.

SUMMARY: On June 26, 2000, HUD published a notice that announced the opportunity for individuals to apply to serve on the U.S.-Israel Bi-National Commission on Housing and Community Development. The deadline for receipt of applications was subsequently extended until August 28, 2000. This notice extends the deadline to apply for this Bi-National Commission until September 22, 2000. This notice also amends the original notice to permit up to twenty people to serve on the U.S. side of this Bi-National Commission.

DATES: In order to receive full consideration, requests must be received by HUD no later than September 22, 2000.

ADDRESSES: Please send your requests for consideration to U.S.-Israel Bi-National Commission, U.S. Department of Housing and Urban Development, Office of International Affairs, Room 8118, 451 Seventh Street, SW, Washington, DC 20410. You may fax your request to (202) 708-5536 (this is not a toll-free number).

FOR FURTHER INFORMATION CONTACT: John Geraghty, U.S. Department of Housing and Urban Development, Office of International Affairs, Room 8118, 451 Seventh Street, SW, Washington, DC 20410, (202) 708-0770 (telephone), (202) 708-5536 (fax) (these are not toll-free numbers). Persons with hearing or speech impairments may access that number via TTY by calling the Federal Information Relay Service at (800) 877-8339.

SUPPLEMENTARY INFORMATION: On June 26, 2000 (65 FR 39419), HUD published a notice that provided the opportunity for individuals to apply to serve on the U.S.-Israel Bi-National Commission on Housing and Community Development and announced the selection and eligibility requirements. The Commission will consist of U.S. and Israeli representatives from the housing, real estate, community development, finance, and construction sectors. On July 24, 2000 (65 FR 45606), HUD published an extension of the deadline for receipt of applications from those applying to serve on this Bi-National Commission. The application period was scheduled to end on August 28, 2000.

In order to give more people the opportunity to apply, the Department has decided to extend the deadline of the application period until September 22, 2000. Furthermore, in order to give more people the opportunity to serve on the U.S.-Israel Bi-National Commission on Housing and Community Development, HUD will provide up to twenty (20) available positions on the U.S. side of this Bi-National Commission.

Dated: August 29, 2000.
Lawrence L. Thompson,
General Deputy Assistant Secretary for Policy Development and Research.

[FR Doc. 00-22828 Filed 9-5-00; 8:45 am]

BILLING CODE 4210-62-P